DEPARTMENT OF ENERGY

Federal Energy Regulatory Commission

Notice of Settlement Agreement and Soliciting Comments

February 19, 2003.

Take notice that the following settlement agreement has been filed with the Commission and is available for public inspection.

a. Type of Application: Settlement Agreement.

b. Project No.: P-696-010,—013.

c. Date Filed: February 13, 2003.

d. Applicant: PacifiCorp.

e. Name of Project: American Fork Hydroelectric Project.

f. Location: On American Fork Creek, near the City of American Fork, Utah County, Utah, about 3 miles east of Highland, Utah. The project affects about 28.8 acres of federal lands within the Uinta National Forest. Also, approximately 2,000 feet of flowline passes through the Timpanogos Cave National Monument, administered by the U.S. Department of the Interior, National Park Service.

g. Filed Pursuant to: Rule 602 of the Commission's Rules of Practice and Procedure, 19 CFR 385.602.

h. Applicant Contact: Monte Garrett, Licensing Manager, PacifiCorp, 825 N.E. Multnomah, Suite 1500, Portland, OR 97232, phone: (503) 813-6629.

i. FERC Contact: Kenneth Hogan at (202) 502-8434, e-mail at kenneth.hogan@ferc.gov.

j. Deadline for filing comments: 20 days from the filing date. Reply comments due 30 days from the filing date.

All documents (original and eight copies) should be filed with: Magalie R. Salas, Secretary, Federal Energy Regulatory Commission, 888 First Street, NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

Comments may be filed electronically via the Internet in lieu of paper. The Commission strongly encourages electronic filings. See 18 CFR 385.2001(a)(1)(iii) and the instructions on the Commission's Web site ( http://www.ferc.gov ) under the “e-Filing” link.

k. PacifiCorp filed the Settlement Agreement on behalf of itself and the U.S. Department of Agriculture Forest Service, U.S. Fish and Wildlife Service, National Park Service, Utah Division of Wildlife Resource, Utah Department of Transportation, Utah State Historic Preservation Office, Utah Council of Trout Unlimited, and American Whitewater. The purpose of the Settlement Agreement is to resolve among the signatories all issues associated with PacifiCorp's pending license application for a new Agreement, the parties support the decommissioning of the American Fork Hydroelectric Project. The parties agree that the Settlement Agreement is fair and reasonable and in the public's interest. The parties recommend that the Commission approve without modification the decommissioning and the interim measures set forth in the Settlement Agreement and Appendix A of that agreement, the Removal Plan.

l. A copy of the settlement agreement is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676 or for TTY, (202) 502-8659. A copy is also available for inspection and reproduction at the address in item h above.

Magalie R. Salas,
Secretary.

[FR Doc. 03-4426 Filed 2-24-03; 8:45 am]

BILLING CODE 6717-01-P